DEPARTMENT OF ENERGY

[FE Docket Nos. 12-24-LNG, 12-27-NG, 12-35-LNG, et al.]

Notice of Orders Granting Authority to Import and Export Natural Gas and Liquefied Natural Gas During April 2012

AGENCY: Office of Fossil Energy, Department of Energy (DOE).

ACTION: Notice of orders.

| FE Docket Nos.
Prometheus Energy Group | 12-24-LNG
The Dow Chemical Company | 12-27-NG
Golden Pass LNG Terminal LLC | 12-35-LNG
NJR Energy Services Company | 12-14-NG
Shell Energy North America (US), L.P. | 12-25-NG
Diamond Capital International, LLC | 12-33-NG
Phillips 66 Company | 12-34-NG
Northwest Natural Gas Company | 12-41-NG
Sequent Energy Management, L.P. | 12-29-NG
Socco, Inc. | 12-30-NG
ENI USA Gas Marketing LLC | 12-26-LNG
Power City Partners, L.P. | 12-37-NG
BG Energy Merchants, LLC | 12-38-NG
Virginia Power Energy Marketing, Inc. | 12-39-NG
IGI Resources, Inc. | 12-42-NG
Minnesota Energy Resources Corporation | 12-40-NG

SUMMARY: The Office of Fossil Energy (FE) of the Department of Energy gives notice that during April 2012, it issued Orders granting authority to import and export natural gas and liquefied natural gas. These Orders are summarized in the attached appendix and may be found on the FE Web site at http://www.fossil.energy.gov/programs/gasregulation/authorizations/Orders-2012.html. They are also available for inspection and copying in the Office of Fossil Energy, Office of Natural Gas Regulatory Activities, Docket Room 3E-033, Forrestal Building, 1000 Independence Avenue SW., Washington, DC 20585, (202) 586-9478. The Docket Room is open between the hours of 8:00 a.m. and 4:30 p.m., Monday through Friday, except Federal holidays.

Issued in Washington, DC, on May 18, 2012.
John A. Anderson,
Manager, Natural Gas Regulatory Activities, Office of Oil and Gas Global Security and Supply, Office of Fossil Energy.

APPENDIX

DOE/FE Orders Granting Import/Export Authorizations
Order No. | Date issued | FE Docket No. | Authorization holder | Description of action
3082 | 04/05/12 | 12-24-LNG | Prometheus Energy Group | Order granting blanket authority to import/export LNG from/to Canada by truck.
3083 | 04/20/12 | 12-27-NG | The Dow Chemical Company | Order granting blanket authority to import/export natural gas from/to Canada/Mexico, and to import LNG from various international sources by vessel.
3084 | 04/20/12 | 12-35-LNG | Golden Pass LNG Terminal LLC | Order granting blanket authority to import LNG from various international sources by vessel.
3085 | 04/23/12 | 12-14-NG | NJR Energy Services Company | Order granting blanket authority to import/export natural gas from/to Canada.
3086 | 04/23/12 | 12-25-NG | Shell Energy North America (US), L.P | Order granting blanket authority to import/export natural gas from/to Canada/Mexico, to export LNG to Canada/Mexico by vessel and truck, and to import LNG from various international sources by vessel.
3087 | 04/23/12 | 12-33-NG | Diamond Capital International, LLC | Order granting blanket authority to import/export natural gas from/to Canada/Mexico, to import LNG from various international sources by vessel, to import LNG from Canada/Mexico by truck, and to export LNG to Canada/Mexico by vessel and truck.
3088 | 04/23/12 | 12-34-NG | Phillips 66 Company | Order granting blanket authority to import natural gas from Canada.
3089 | 04/23/12 | 12-41-NG | Northwest Natural Gas Company | Order granting blanket authority to import/export natural gas from/to Canada.
3090 | 04/26/12 | 12-29-NG | Sequent Energy Management, L.P | Order granting blanket authority to import/export natural gas from/to Canada.
3091 | 04/26/12 | 12-30-NG | Socco, Inc. | Order granting blanket authority to import natural gas from Canada.
3092 | 04/30/12 | 12-26-LNG | ENI USA Gas Marketing LLC | Order granting blanket authority to import LNG from various international sources by vessel.
3093 | 04/30/12 | 12-37-NG | Power City Partners, L.P | Order granting blanket authority to import natural gas from Canada.
3094 | 04/30/12 | 12-38-NG | BG Energy Merchants, LLC | Order granting blanket authority to import/export natural gas from/to Canada/Mexico.
3095 | 04/30/12 | 12-39-NG | Virginia Power Energy Marketing, Inc | Order granting blanket authority to import/export natural gas from/to Canada.
3096 | 04/30/12 | 12-42-NG | IGI Resources, Inc | Order granting blanket authority to import/export natural gas from/to Canada.
3097 | 04/30/12 | 12-40-NG | Minnesota Energy Resources Corporation | Order granting blanket authority to import/export natural gas from/to Canada/Mexico.

[FR Doc. 2012-13090 Filed 5-29-12; 8:45 am]

BILLING CODE 6450-01-P